DEPARTMENT OF TRANSPORTATION

Federal Aviation Administration

14 CFR Part 39

[Docket No. 2002-NM-208-AD]

RIN 2120-AA64

Airworthiness Directives; BAE Systems (Operations) Limited (Jetstream) Model 4101 Airplanes

AGENCY: Federal Aviation Administration, DOT.

ACTION: Notice of proposed rulemaking (NPRM).

SUMMARY: This document proposes the adoption of a new airworthiness directive (AD) that is applicable to all BAE Systems (Operations) Limited (Jetstream) Model 4101 airplanes. This proposal would require operators to determine the flight cycles accumulated on each component of the main landing gear (MLG) and the nose landing gear (NLG), and to replace each component that reaches its life limit with a serviceable component. This proposal would also require operators to revise the Airworthiness Limitations section of the Instructions for Continued Airworthiness in the aircraft maintenance manual to reflect the new life limits. This action is necessary to prevent failure of certain components of the MLG and the NLG, which could result in failure of either or both landing gears, and consequent damage to the airplane and injury to passengers or crewmembers. This action is intended to address the identified unsafe condition.

DATES: Comments must be received by April 5, 2004.

ADDRESSES: Submit comments in triplicate to the Federal Aviation Administration (FAA), Transport Airplane Directorate, ANM-114, Attention: Rules Docket No. 2002-NM-208-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-208-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments, as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-208-AD.” The postcard will be date stamped and returned to the commenter.

Availability of NPRMs

Any person may obtain a copy of this NPRM by submitting a request to the FAA, Transport Airplane Directorate, ANM-114, Attention: Rules Docket No. 2002-NM-208-AD, 1601 Lind Avenue, SW., Renton, Washington 98055-4056.

Discussion

The Civil Aviation Authority (CAA), which is the airworthiness authority for the United Kingdom, notified the FAA that an unsafe condition may exist on all BAE Systems (Operations) Limited (Jetstream) Model 4101 airplanes. The CAA advises that the Airworthiness Limitations section of the Instructions for Continued Airworthiness was previously published to cover the life limits of whole landing gear units for both the main landing gear (MLG) and the nose landing gear (NLG). In quoting the life limits in this manner, it was assumed that all components of a landing gear unit would remain with that unit for the duration of its life. However, components of both the MLG and the NLG units on the affected airplanes have been transferred between different landing gear units during overhaul and repair. Therefore, the CAA advises that the flight cycles for each component of the MLG and NLG units must be established, and that each component must be replaced with a serviceable component when it reaches its life limit. Future revisions of the aircraft maintenance manual (AMM) will reflect the life limits for each component. Establishment of the life limit for each component of the landing gear units, and replacement when the component reaches its life limit, is intended to prevent failure of certain components of the MLG and the NLG. Failure of components of the MLG or NLG could result in failure of either or both landing gears, and consequent damage to the airplane and injury to passengers or crewmembers.

Explanation of Relevant Service Information

BAE Systems (Operations) Limited has issued Service Bulletin J41-32-078, dated April 12, 2002, which provides procedures for establishing the flight cycles accumulated by components of the MLG and NLG for which complete records exist. This service bulletin also provides information about the life limits for all components of the MLG and NLG.

BAE Systems (Operations) Limited has also issued Service Bulletin J41-05-001, Revision 2, dated March 15, 2002, which provides procedures for establishing the life limits of NLG and MLG components for which complete records do not exist.

The CAA classified Service Bulletin J41-32-078 as mandatory and issued British airworthiness directive 007-04-2002 to ensure the continued airworthiness of these airplanes in the United Kingdom.

BAE Systems (Operations) Limited Service Bulletin J41-05-001 refers to J41 Service Information Leaflet 32-15, Issue 1, dated February 15, 2002, as an additional source of service information for establishing the life limits of landing gear components and for tracking the accumulated lives of each component.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. The FAA has examined the findings of the CAA, reviewed all available information, and determined that AD action is necessary for products of this type design that are certificated for operation in the United States.

Explanation of Requirements of Proposed Rule

Since an unsafe condition has been identified that is likely to exist or develop on other products of this same type design, the proposed AD would require accomplishment of the actions specified in the service bulletins described previously, except as discussed below. The proposed AD would also require operators to revise the Airworthiness Limitations section of the Instructions for Continued Airworthiness of the AMM to reflect the new life limits.

Clarification of Compliance Times Between the Proposed, and the British Airworthiness Directive, and Service Bulletin J41-32-078

British airworthiness directive 007-04-2002 does not give a compliance time for replacing components of the landing gear units. Service Bulletin J41-32-078 requires replacement, prior to further flight, of components that are found to have reached life limits when flight cycles are first established. We have determined that the following compliance times ensure an adequate level of safety for the affected fleet: For any landing gear component that has reached its life limit as of the effective date of this proposed AD, replace the component within 60 days after establishing the accumulated flight cycles for that component; thereafter, replace any component before it reaches the applicable number of flight cycles for its life limit. In developing appropriate compliance times for this AD, we considered further recommendations from the manufacturer, the degree of urgency associated with the subject unsafe condition, and the time necessary to perform the replacement(s). In light of all of these factors, we find that the above compliance times represent an appropriate interval of time for affected airplanes to continue to operate without compromising safety.

Interim Action

We consider this proposed AD interim action. The manufacturer is currently completing a fatigue-testing program for the MLG and NLG that will address the unsafe condition identified in this AD. Once this testing is completed, and final life limits are established, we may consider additional rulemaking.

Cost Impact

The FAA estimates that 57 airplanes of U.S. registry would be affected by this proposed AD, that it would take approximately 1 work hour per airplane to accomplish the proposed determination of the number of flight cycles, and 1 work hour per airplane to accomplish the proposed revision of the AMM. The average labor rate is $65 per work hour. Based on these figures, the cost impact of the proposed AD on U.S. operators is estimated to be $7,410, or $130 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bae Systems (Operations) Limited (formerly British Aerospace Regional Aircraft): Docket 2002-NM-208-AD.

Applicability: All Model Jetstream 4101 airplanes, certificated in any category.

Compliance: Required as indicated, unless accomplished previously.

To prevent failure of certain components of the main landing gear and the nose landing gear, which could result in failure of either or both landing gears, and consequent damage to the airplane and injury to passengers or crewmembers, accomplish the following:

Determine Flight Cycles for Components

(a) Within 90 days after the effective date of this AD: Determine the number of flight cycles accumulated on each landing gear component listed in Table 1 and Table 2 of the Accomplishment Instructions of BAE Systems (Operations) Limited Service Bulletin J41-32-078, dated April 12, 2002. If there are no records or incomplete records for any component, establish the number of flight cycles in accordance with the Accomplishment Instructions of BAE Systems (Operations) Limited Service Bulletin J41-05-001, Revision 2, dated March 15, 2002.

Note 1: BAE Systems (Operations) Limited Service Bulletin, J41-05-001 refers to J41 Service Information Leaflet 32-15, Issue 1, dated February 15, 2002, as an additional source of service information for establishing the life limits of landing gear components and for tracking the accumulated lives of each component.

Replace Components

(b) Except as provided by paragraph (c) of this AD, within 60 days after establishing the flight cycles per paragraph (a) of this AD: Replace any landing gear component that has reached the life limit determined by paragraph (a) of this AD, with a serviceable component in accordance with the applicable airplane maintenance manual (AMM). Thereafter, replace any component that reaches its life limit prior to the accumulation of the applicable number of flight cycles shown in Table 1 and Table 2 of the Accomplishment Instructions of BAE Systems (Operations) Limited Service Bulletin J41-32-078, dated April 12, 2002.

(c) Any component whose total accumulated life cycles has not been established, or that has exceeded its life limit, but has not yet been replaced per paragraph (b) of this AD, must be replaced within 72 months after the effective date of this AD, in accordance with BAE Systems (Operations) Limited Service Bulletin J41-32-078, dated April 12, 2002.

Revise Aircraft Maintenance Manual

(d) Within 30 days after the effective date of this AD: Revise the Airworthiness Limitations section of the Instructions for Continued Airworthiness of the AMM to include the life limits of the components listed in Table 1 and Table 2 of the Accomplishment Instructions of BAE Systems (Operations) Limited Service Bulletin J41-32-078, dated April 12, 2002. This may be accomplished by inserting a copy of the service bulletin in the Airworthiness Limitations section of the Instructions for Continued Airworthiness until such time as a revision is issued. Thereafter, except as provided in paragraph (g) of this AD, no alternative replacement times may be approved for any affected component.

Parts Installation

(e) As of the effective date of this AD, no landing gear unit, may be installed on any airplane unless the accumulated flight cycles of all components of that landing gear have been established per paragraph (a) of this AD, and any component that has exceeded its life limit has been replaced per paragraph (b) of this AD.

Actions Accomplished Per Previous Issue of Service Bulletin

(f) Calculations of total accumulated flight cycles accomplished per BAE Systems (Operations) Limited Service Bulletin J41-05-001, Revision 1, dated April 10, 2001, are considered acceptable for compliance with the corresponding action specified in this AD.

Alternative Methods of Compliance

(g) In accordance with 14 CFR 39.19, the Manager, International Branch, ANM-116, FAA, Transport Airplane Directorate, is authorized to approve alternative methods of compliance for this AD.

Note 2: The subject of this AD is addressed in British airworthiness directive 007-04-2002.

Issued in Renton, Washington, on February 24, 2004.
Kalene C. Yanamura,
Transport Airplane Directorate, Aircraft Certification Service.

[FR Doc. 04-4939 Filed 3-4-04; 8:45 am]

BILLING CODE 4910-13-P